NATIONAL AERONAUTICS AND SPACE ADMINISTRATION

[Notice (00-026)]

Government-Owned Inventions, Available for Licensing

AGENCY: National Aeronautics and Space Administration.

ACTION: Notice of Availability of Inventions for Licensing.

SUMMARY: The inventions listed below are assigned to the National Aeronautics and Space Administration, have been filed in the United States Patent and Trademark Office, and are available for licensing.

Copies of patent applications cited are available from the Office of Patent Counsel, Ames Research Center. Claims are deleted from the patent applications to avoid premature disclosure.

DATE: March 13, 2000.

FOR FURTHER INFORMATION CONTACT: Robert M. Padilla, Patent Counsel, NASA Ames Research Center, Mail Code 202A-3, Moffett Field, CA 94035-1000; telephone (650) 604-5104, fax (650) 604-1592.

NASA Case No. ARC-14359-1GE: Method and System for an Automated Tool for En Route Traffic Controllers;

NASA Case No. ARC-14491-1NP: A Neural Net Algorithm that Emulates Chemical Processes.

Dated: March 6, 2000.
Edward A. Frankle,
General Counsel.

[FR Doc. 00-6040 Filed 3-10-00; 8:45 am]

BILLING CODE 7510-01-U